DEPARTMENT OF TRANSPORTATION

Federal Motor Carrier Safety Administration

[Docket No. FMCSA-2007-29251]

Agency Information Collection Activities; Emergency Approval of a New Information Collection: Commercial Vehicle Driver Survey: Truck Driver Hours of Service and Fatigue Management

AGENCY: Federal Motor Carrier Safety Administration (FMCSA), DOT.

ACTION: Notice and request for information.

SUMMARY: In accordance with the Paperwork Reduction Act of 1995, this notice announces that the Information Collection Request (ICR) abstracted below has been forwarded to the Office of Management and Budget (OMB) to request an emergency approval process. FMCSA requested approval of this ICR not later than 30 days from the date of publication of this notice. The purpose of this information collection is to analyze the impact of the new Hours-of-Service regulations on drivers and the effects of these regulations on driver fatigue as well as to acquire general demographic information regarding the commercial motor vehicle driving population.

DATES: Please send your comments by April 21, 2008. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Mr. Robert Carroll, Senior Transportation Specialist, (202) 385-2388, robert.carroll@dot.gov, MC-RRR Federal Motor Carrier Safety Administration, 6th Floor, West Building, 1200 New Jersey Ave., SE., Washington, DC 20590. Requests for additional information or copies of the information collection instrument and instructions should be directed to Dr. Michelle Yeh, Engineering Psychologist, (617) 494-3459, yeh@volpe.dot.gov, Human Factors Division, Volpe National Transportation Systems Center, 55 Broadway, Cambridge, MA 02124. Office hours are from 9 a.m. to 5 p.m., Monday through Friday, except Federal holidays.

SUPPLEMENTARY INFORMATION: Title: Commercial Vehicle Driver Survey: Truck Driver Hours of Service and Fatigue Management.

OMB Control Number: 2126-XXXX.

Type of Request: New information collection.

Respondents: Commercial motor vehicle drivers.

Estimated Number of Respondents: 1728 respondents.

Estimated Time per Response: 15 minutes.

Expiration Date: N/A. This is a new information collection.

Frequency of Response: One-time.

Estimated Total Annual Burden: 432 hours [1728 respondents × 15 minutes = 432].

Background: The Federal Motor Carrier Safety Administration (FMCSA) needs a better understanding of the commercial motor vehicle driving population and the perceived effect of its new Hours-of-Service rule. This rule, adopted in August 2005, was intended to align truck drivers' schedules with the normal 24-hour circadian cycle and provide drivers with better opportunities to obtain more restorative sleep. The Hours-of-Service rule is intended to minimize the occurrence of operational errors on the road. However, in July, 2007, two provisions of the Hours-of-Service rule were vacated by the United States Court of Appeals for the District of Columbia Circuit (the Court). The Court held that FMCSA had failed to provide an opportunity to comment on the methodology of its operator-fatigue model, and that it failed to explain the elements of that methodology. Because the model is the basis for the cost-benefit analysis which supports the increase of driving time from 10 to 11 hours and of the 34-hour restart, the Court vacated those two provisions. The Court subsequently stayed its mandate for three months, until December 27, 2007.

FMCSA would like to analyze, in great detail, the impact of the 2005 Hours-of-Service regulations on drivers. Related to this issue is truck driver fatigue. Fatigue mitigation has been a high priority in the Department of Transportation and the FMSCA for many years. The 2005 Hours-of-Service regulations required drivers to take two additional hours off duty every day, allowing them to obtain the 7-8 hours of sleep that most people need to maintain alertness. An understanding of whether the rules are perceived to be having the desired effect on driver sleep is needed. Additionally, understanding drivers' napping habits and other solutions for coping with fatigue would provide input for future solutions and policies to better accommodate these issues.

FMCSA would also like to obtain information on the commercial motor vehicle driving population. Driver-related factors are an important consideration in commercial motor vehicle crashes, but there is no central nationwide source of information describing the population of drivers holding a Commercial Drivers License (CDL). An estimate of the number of commercial drivers and particular subsets of drivers (e.g., short-haul, regional, long-haul) is needed and would benefit FMCSA in assessing the impacts of future initiatives, policies, and rules and the improvement of its safety programs.

The goals of this survey are to obtain commercial motor vehicle drivers' opinions on the new Hours-of-Service regulations and the effects of these regulations on driver fatigue and to acquire general demographic information regarding the commercial motor vehicle driving population. Data for this project will be collected via driver interviews and from a one-time, hard copy, mailed survey. Drivers will provide information regarding the nature of their work, experience, and employment history, their perceptions regarding the effect of the Hours-of-Service regulations, and methods for coping with fatigue. The results of the information collection will be summarized and made available to the public. It will be used to inform future initiatives, policies, and rules; develop a picture of the commercial vehicle driver population for use in future FMCSA research; and contribute to the general literature regarding fatigue management.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the collected information.

Issued On: March 14, 2008.
Terry Shelton,
Associate Administrator for Research and Information Technology.

[FR Doc. E8-5720 Filed 3-20-08; 8:45 am]

BILLING CODE 4910-EX-P